DEPARTMENT OF DEFENSE

Office of the Secretary

[Docket ID: DoD-2013-OS-0233]

Proposed Collection; Comment Request

AGENCY: Office of the Secretary of Defense, DoD.

ACTION: Notice and request for comments.

SUMMARY: In compliance with Section 3506(c)(2)(A) of the Paperwork Reduction Act of 1995, and as part of an effort to streamline the process to seek feedback from the public on service delivery, the Department of Defense announces a proposed generic information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 25, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Information Management Division, ATTN: Public Collections Team, 4800 Mark Center Drive, East Tower, Suite 02G09, Alexandria, VA 22350-3100.

SUPPLEMENTARY INFORMATION: Title; Associated Form; and OMB Number: Office of the Secretary of Defense Generic Clearance; OMB Control Number 0704-TBD.

Needs and Uses: The proposed information collection activity provides a means to garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Responses will be assessed to plan and inform efforts to improve or maintain the quality of service offered to the public. If this information is not collected, vital feedback from customers and stakeholders on the Agency's services will be unavailable.

Affected Public: Individuals or Households; Business or Other For-Profit; Not-For-Profit Institutions; Farms; Federal Government; State, Local, or Tribal Government.

Number of Respondents: 175,000.

Average Annual Burden

Average Expected Annual Number of Activities: 10.

Average Number of Respondents per Activity: 5,833.

Annual Responses: 58,330.

Responses per Respondent: 1.

Average Time per Response: 15 minutes.

Annual Burden Hours: 14,583.

Three Year Burden

Average Expected Number of Activities: 30.

Total Respondents: 175,000.

Total Responses: 175,000.

Responses per Respondent: 1.

Average Time per Response: 15 minutes.

Total Burden Hours: 43,750.

Frequency: On occasion.

Dated: December 20, 2013.
Aaron Siegel,
Alternate OSD Federal Register, Liaison Officer, Department of Defense.

[FR Doc. 2013-30926 Filed 12-26-13; 8:45 am]

BILLING CODE 5001-06-P